DEPARTMENT OF COMMERCE

Foreign-Trade Zones Board

[Docket 22-2000]

Foreign-Trade Zone 146—Lawrence County, IL; Application for Expansion of Manufacturing Authority—Subzone 146A, North American Lighting, Inc., Facilities, Flora and Salem, IL (Automotive Lighting Products)

A application has been submitted to the Foreign-Trade Zones Board (the Board) by the Bi-State Authority, grantee of FTZ 146, requesting an expansion of the scope of manufacturing authority to include new manufacturing capacity under FTZ procedures and requesting authority to expand the boundary of FTZ Subzone 146A at the North American Lighting, Inc. (NAL), facilities in Flora and Salem, Illinois. It was formally filed on May 30, 2000.

Subzone 146A was approved by the Board in 1988 with authority granted for the manufacture of automotive lighting components and other related auto parts at NAL's manufacturing facilities (355,000 sq.ft./14 acres) in Flora, Illinois (Site 1) (Board Order 371, 53 FR 5436, 2-24-88). The subzone was subsequently reorganized and expanded to include NAL's second manufacturing facility (380,000 sq.ft./22 acres) in the Salem Industrial Park, Salem, Illinois (Site 2) (Board Order 718, 60 FR 2375, 1-9-95), with the scope of FTZ manufacturing authority increased to 28 million units annually.

The applicant is now requesting authority to expand the subzone boundaries to include an additional 300,000 square feet of manufacturing space within Site 1 and an additional 17-acre parcel and 365,000 square feet manufacturing/warehouse space within Site 2. Under the current expansion plan, the NAL facilities' capacity will be approximately doubled (to 56 million units per year) with the addition of 665,000 square feet of production area. Activity at the facilities (2,200 employees) involves design, injection molding, plating and assembly of motor vehicle headlamps, rear combination lamps, high mount stop lamps, turn signals, dome and trunk lamps, fog lamps, side marker and license plate lamps using domestic and foreign-origin components. Foreign-sourced components and materials (about 19 percent of total purchases) include: various polymers and resins in primary form (HTSUS Ch. 39), articles of rubber and plastic, parts of lighting equipment, wiring harnesses, bulbs, gaskets/seals, fasteners, optical elements of glass, certain electrical apparatus, lamps and lenses, optical fiber and cable/bundles (duty rates: free-12.5%, 1.2¢/kg+7.5%).

FTZ procedures exempt NAL from Customs duty payments on the foreign components used in export production (9% of shipments). On its domestic sales, the company is able to choose the duty rates that apply to finished automotive lighting equipment and parts (duty free, 2.5%) for the foreign components noted above. The auto duty rate (2.5%) applies if the finished products are shipped via zone-to-zone transfer to U.S. motor vehicle assembly plants with subzone status. The request indicates that the savings from FTZ procedures will continue to help improve the facilities' international competitiveness.

In accordance with the Board's regulations, a member of the FTZ Staff has been designated examiner to investigate the application and report to the Board.

Public comment on the application is invited from interested parties. Submissions (original and three copies) shall be addressed to the Board's Executive Secretary at the address below. The closing period for their receipt is August 4, 2000. Rebuttal comments in response to material submitted during the foregoing period may be submitted during the subsequent 15-day period (to August 21, 2000).

A copy of the application will be available for public inspection at the following location: Office of the Executive Secretary, Foreign-Trade Zones Board, Room 4008, U.S. Department of Commerce, 14th Street & Constitution Avenue, NW, Washington, DC 20230.

Dated: May 30, 2000.
Dennis Puccinelli,
Acting Executive Secretary.

[FR Doc. 00-14031 Filed 6-2-00; 8:45 am]

BILLING CODE 3510-DS-P